DEPARTMENT OF HEALTH AND HUMAN SERVICES

National institutes of Health

Center for Scientific Review; Cancellation of Meeting

Notice is hereby given of the cancellation of the Biomaterials and Biointerfaces Study Section, June 27, 2005, 8 a.m. to June 28, 2005, 5 p.m., Holiday Inn Select Bethesda, 8120 Wisconsin Ave, Bethesda, MD, 20814 which was published in the Federal Register on May 26, 2005, 70 FR 30475-30477.

The meeting is cancelled due to a lack of quorum.

Dated: May 27, 2005.
LaVerne Y. Stringfield,
Director, Office of Federal Advisory Committee Policy.

[FR Doc. 05-11223 Filed 6-6-05; 8:45 am]

BILLING CODE 4140-01-M